DEPARTMENT OF STATE

[Public Notice 6671]

60-Day Notice of Proposed Information Collection: Office of Language Services Contractor Application Form, OMB 1405-XXXX, DS-7651

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Office of Language Services Contractor Application Form.

• OMB Control Number: None.

• Type of Request: New Collection.

• Originating Office: Bureau of Administration (A/OPR/LS).

• Form Number: DS-7651.

• Respondents: General Public Applying for Translator and/or Interpreter Contract Positions.

• Estimated Number of Respondents: 900.

• Estimated Number of Responses: 900.

• Average Hours per Response: Thirty minutes.

• Total Estimated Burden: 450 hours.

• Frequency: On Occasion.

• Obligation to Respond: Required to Obtain or Retain a Benefit.

DATE(S): The Department will accept comments from the public up to 60 days from June 17, 2009.

ADDRESSES: You may submit comments by any of the following methods:

• E-mail: LSapplications@state.gov.

• Mail (paper, disk, or CD-ROM submissions): Department of State, Office of Language Services SA-1, Fourteenth Floor, 2401 E Street, NW., Washington, DC 20522.

You must include the DS form number (if applicable), information collection title, and OMB control number in any correspondence.

FOR FURTHER INFORMATION CONTACT: Direct requests for additional information regarding the collection listed in this notice, including requests for copies of the proposed information collection and supporting documents, to Ms. Keiry Carroll at 2401 E Street, NW., Fourteenth Floor, Washington, DC 20522, who may be reached on (202) 261-8777 or at carrollkm@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The information collected is needed to ascertain whether respondents are viable interpreting and/or translating candidates, based on their work history and legal work status in the United States. If candidates successfully become contractors for the U.S. Department of State, Office of Language Services, the information collected is used to initiate security clearance background checks and for processing payment vouchers. Respondents are typically members of the general public with varying degrees of experience in the fields of interpreting and/or translating.

Methodology:

OLS makes the “Office of Language Services Contractor Application Form” available via the OLS Internet site. Respondents can submit it electronically via e-mail or fax.

Dated: April 6, 2009.
Matthew S. Klimow,
Director, Office of Language Services, Department of State.

[FR Doc. E9-14225 Filed 6-16-09; 8:45 am]

BILLING CODE 4710-24-P